DEPARTMENT OF HEALTH AND HUMAN SERVICES

Health Resources and Services Administration

National Advisory Council on Migrant Health; Notice of Meeting

In accordance with section 10(a)(2) of the Federal Advisory Committee Act (Pub. L. 92-463), notice is hereby given of the following meeting:

Name: National Advisory Council on Migrant Health.

Dates and Times: August 19, 2013, 8:30 a.m. to 4:30 p.m. August 20, 2013, 8:00 a.m. to 5:00 p.m.

Place: Health Resources and Services Administration, 5600 Fishers Lane, Room 14-72, Rockville, Maryland 20857, Telephone: 301-594-0367, Fax: 301-443-9477.

Status: The meeting will be open to the public.

Purpose: The purpose of the meeting is to discuss services and issues related to the health of migrant and seasonal agricultural workers and their families and to formulate recommendations for the Secretary of Health and Human Services.

Agenda: The agenda includes an overview of the Council's general business activities. The Council will also hear presentations from experts on agricultural worker issues, including the status of agricultural worker health at the local and national levels.

In addition, the council will be holding a public hearing at which migrant agricultural workers will have the opportunity to testify before the Council regarding matters that affect the health of migrant agricultural workers. The hearing is scheduled for Monday, August 19, from 1:30 p.m. to 4:30 p.m., at the Health Resources and Services Administration.

Agenda items are subject to change as priorities indicate.

FOR FURTHER INFORMATION CONTACT: Gladys Cate, Office of National Assistance and Special Populations, Bureau of Primary Health Care, Health Resources and Services Administration, 5600 Fishers Lane, Room 6-41, Maryland 20857; telephone (301) 594-0367.

Dated: July 3, 2013.
Bahar Niakan,
Director, Division of Policy and Information Coordination.

[FR Doc. 2013-16558 Filed 7-9-13; 8:45 am]

BILLING CODE 4165-15-P